OFFICE OF PERSONNEL MANAGEMENT

Notice of Submission for Approval: Information Collection 3206-0106; Interview Survey Form, INV 10

AGENCY: U.S. Office of Personnel Management.

ACTION: 60-Day notice and request for comments.

SUMMARY: Federal Investigative Services (FIS), U.S. Office of Personnel Management (OPM) is notifying the general public and other Federal agencies that OPM is seeking Office of Management and Budget (OMB) approval of a revised information collection control number 3206-0106, Interview Survey Form, INV 10. OPM is soliciting comments for this collection as required by the Paperwork Reduction Act of 1995, (Pub. L. 104-13, 44 U.S.C. chapter 35), as amended by the Clinger-Cohen Act (Pub. L. 104-106). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until August 17, 2015. This process is conducted in accordance with 5 CFR 1320.8(d).

ADDRESSES: Interested persons are invited to submit written comments on the proposed information collection to the Federal Investigative Services, U.S. Office of Personnel Management, 1900 E Street NW., Washington, DC 20415, Attention: Donna McLeod or by electronic mail at FISFormsComments@opm.gov.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: The Interview Survey Form, INV 10 is mailed by OPM, to a random sampling of record and personal sources contacted during background investigations when investigators have performed fieldwork. The INV 10 is used as a quality control instrument designed to ensure the accuracy and integrity of the investigative product. The form queries the recipient about the investigative procedure exhibited by the investigator, the investigator's professionalism, and the information discussed and reported. In addition to the preformatted response options, OPM invites the recipients to respond with any other relevant comments or suggestions.

OPM proposes the following changes. To prevent confusion as to the meaning of the current question “Were you interviewed in private?” OPM proposes to ask, “Were you interviewed alone (no third party present)?” and “Were you interviewed in a private setting or private, enclosed space?” To provide the respondent the opportunity to explain the circumstances of interviews conducted by phone, OPM is replacing the current series of checkboxes (“My Request,” “Investigator's Request,” “No Reason Given”) with two questions, “Were you offered to be interviewed in person?” and “Please explain why the interview was conducted by telephone.” OPM proposes to amend Question 7 to be more concise by combining the series of two questions into one, so that Question 7 will now read “Please provide any additional comments or concerns you have about the investigator and/or the interview, and indicate if you require additional contact from an OPM representative.”

OPM is also making non-substantive changes to page one of the form for conciseness.

Analysis

Agency: Federal Investigative Services, U.S. Office of Personnel Management.

Title: Interview Survey Form, INV 10.

OMB Number: 3206-0106.

Affected Public: A random sampling of record and personal sources contacted during background investigations when investigators have performed fieldwork.

Number of Respondents: 61,973.

Estimated Time per Respondent: 6 minutes.

Total Burden Hours: 6,197.

U.S. Office of Personnel Management.
Katherine Archuleta,
Director.

[FR Doc. 2015-14972 Filed 6-17-15; 8:45 am]

BILLING CODE 6325-53-P